DEPARTMENT OF HEALTH AND HUMAN SERVICES

Centers for Disease Control and Prevention

Advisory Committee to the Director, Centers for Disease Control and Prevention, (ACD, CDC)

In accordance with section 10(a)(2) of the Federal Advisory Committee Act (Pub. L. 92-463), CDC, announces the following meeting of the aforementioned committee:

Time and Date: 8 a.m.—4 p.m., May 1, 2008.

Place: CDC, Tom Harkin Global Communications Center, Auditorium B, 1600 Clifton Road, Atlanta, GA 30333.

Status: Open to the public, limited only by the space available. The meeting room accommodates approximately 150 people.

Purpose: The committee will provide advice to the CDC Director on strategic and other broad issues facing CDC.

Matters To Be Discussed: Agenda items will include discussions on health systems transformation.

Agenda items are subject to change as priorities dictate.

Contact Person for More Information: Brad Perkins, M.D., M.B.A., Executive Officer, Advisory Committee to the Director, CDC, 1600 Clifton Road, NE., M/S D-14, Atlanta, Georgia 30333; Telephone (404) 639-7000.

The Director, Management Analysis and Services Office, has been delegated the authority to sign Federal Register notices pertaining to announcements of meetings and other committee management activities, for both the CDC and the Agency for Toxic Substances and Disease Registry.

Dated: April 4, 2008.
Elaine L. Baker,
Director, Management Analysis and Services Office, Centers for Disease Control and Prevention.

[FR Doc. E8-8039 Filed 4-14-08; 8:45 am]

BILLING CODE 4163-18-P